SMALL BUSINESS ADMINISTRATION

[Declaration of Disaster #3544]

State of Indiana

As a result of the President's major disaster declaration on September 5, 2003, I find that Blackford, Boone, Clay, Delaware, Grant, Greene, Hamilton, Hancock, Hendricks, Henry, Jay, Johnson, Madison, Marion, Monroe, Montgomery, Morgan, Owen, Putnam, Randolph and Shelby Counties in the State of Indiana constitute a disaster area due to damages caused by severe storms, tornadoes and flooding occurring on August 26, 2003 and continuing. Applications for loans for physical damage as a result of this disaster may be filed until the close of business on November 4, 2003 and for economic injury until the close of business on June 7, 2004 at the address listed below or other locally announced locations: U.S. Small Business Administration, Disaster Area 2 Office, One Baltimore Place, Suite 300, Atlanta, GA 30308.

In addition, applications for economic injury loans from small businesses located in the following contiguous counties may be filed until the specified date at the above location: Adams, Bartholomew, Brown, Clinton, Daviess, Decatur, Fayette, Fountain, Howard, Huntington, Jackson, Knox, Lawrence, Miami, Martin, Parke, Rush, Sullivan, Tippecanoe, Tipton, Vigo, Wabash, Wayne and Wells in the State of Indiana; and Darke and Mercer counties in the State of Ohio.

The interest rates are:

| Percent
For Physical Damage:
Homeowners with Credit Available Elsewhere | 5.125
Homeowners without Credit Available Elsewhere | 2.562
Businesses with Credit Available Elsewhere | 6.199
Businesses and Non-Profit Organizations without Credit Available Elsewhere | 3.100
Others (including Non-Profit Organizations) with Credit Available Elsewhere | 5.500
For Economic Injury:
Businesses and Small Agricultural Cooperatives without Credit Available Elsewhere | 3.100

The number assigned to this disaster for physical damage is 354406. For economic injury the number is 9W8800 for Indiana; and 9W8900 for Ohio.

(Catalog of Federal Domestic Assistance Program Nos. 59002 and 59008).

Dated: September 10, 2003.
Herbert L. Mitchell,
Associate Administrator for Disaster Assistance.

[FR Doc. 03-23598 Filed 9-15-03; 8:45 am]

BILLING CODE 8025-01-P